DEPARTMENT OF LABOR

Employment and Training Administration

State Quality Service Plan (SQSP); Comment Request

ACTION: Notice.

SUMMARY: The Department of Labor, as part of its continuing effort to reduce paperwork and respondent burden conducts a preclearance consultation program to provide the general public and Federal agencies with an opportunity to comment on proposed and/or continuing collections of information in accordance with a provision of the Paperwork Reduction Act of 1995 at 44 U.S.C. 3506(c)(2)(A). This program helps to ensure that requested data can be provided in the desired format, reporting burden (time and financial resources) is minimized, collection instruments are clearly understood, and the impact of collection requirements on respondents can be properly assessed. Currently, the Employment and Training Administration (ETA) is soliciting comments concerning the proposed extension of the State Quality Service Plan (SQSP).

Guidelines for completion and submittal of the SQSP are contained in ETA Handbook 336, 17th Edition. Fiscal year-specific information such as Federal program emphasis, or additional budget allocations, will be provided annually in an implementation directive that will initiate the planning process each year. The requirements of the reporting and data collection process itself will remain unchanged from year to year. Copies of the SQSP Handbook may be obtained by contacting the addressee below. The Handbook is also available on the Internet at http://www.workforcesecurity.doleta.gov.

DATES: Submit comments on or before January 28, 2005.

ADDRESSES: Send comments to Delores A. Mackall, U.S. Department of Labor, 200 Constitution Avenue, NW., Room S-4231, Washington, DC 20210, (202) 693-3183 (this is not a toll-free number); fax, (202) 693-3975; Internet: mackall.delores@dol.gov.

FOR FURTHER INFORMATION CONTACT: Delores A. Mackall, U.S. Department of Labor, 200 Constitution Avenue, NW., Room S-4231, Washington, DC 20210, (202) 693-3183 (this is not a toll-free number); fax, (202) 693-3975; Internet: mackall.delores@dol.gov.

SUPPLEMENTARY INFORMATION:

I. Background

The SQSP is the planning instrument for the Unemployment Insurance (UI) system nationwide. The statutory basis for the SQSP is Title III of the Social Security Act, which establishes conditions for each State to receive grant funds to administer its UI program. Plans are prepared annually, since funds for UI operations are appropriated each year. ETA's annual budget request for State UI operations contains workload assumptions for which a State must plan in order for the Secretary of Labor to carry out her responsibilities under Title III. ETA issues financial planning targets based on the budget request. States make plans based on these assumptions and targets.

II. Desired Focus of Comments

Currently, the Department of Labor is soliciting comments concerning the proposed extension collection of the UI SQSP. The Department is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques, or other forms of information technology, e.g., permitting electronic submission of responses.

A copy of the proposed ICR can be obtained by contacting the office listed above in the addressee section of this notice.

III. Current Actions

ETA proposes to extend this clearance which contains a reduction in burden hours. The reduction in hours is a result of changes to the SQSP which stemmed from a 5-year review of UI Performs. The number of measures for which a state is held accountable has been reduced; however, the average number of corrective action plans that states must submit for not meeting the criteria has increased. States are no longer required to submit continuous improvement plans. The SQSP narrative has been streamlined to exclude previously required Focus narratives. Additionally, states will no longer be required to address environmental factors, such as economic conditions, political climate, labor/business relationships, or state legislative issues. States will describe in a single narrative: performance in comparison to the Government Performance Results Act (GPRA) goals; results of customer satisfaction surveys, which is optional; and actions planned to correct deficiencies regarding program reviews, reporting requirements, and the Benefits Accuracy Measurement (BAM), Tax Performance System (TPS), and Data Validation (DV) programs. States are requested to submit the SQSP and the required signature page electronically.

Type of Review: Extension.

Agency: Employment and Training Administration.

Title: Unemployment Insurance State Quality Service Plan (SQSP)

OMB Number: 1205-0132.

Affected Public: State Workforce Agencies (SWAs).

Total Respondents: 53.

Frequency: Annually.

Average Time per Response: 3.14 hours.

Estimated Total Burden Hours: 1829 hours.

Estimated Total Burden Cost: $0.

Cheryl Atkinson,
Administrator, Office of Workforce Security.

[FR Doc. E4-3355 Filed 11-26-04; 8:45 am]

BILLING CODE 4510-30-P